ENVIRONMENTAL PROTECTION AGENCY

[FRL-7662-7, Docket ID No. A-94-34]

Clean Air Act Advisory Committee: Notice Soliciting Interest in Participating on a Task Force on the Performance of the Title V Operating Permits Program

AGENCY: Environmental Protection Agency (EPA).

ACTION: Notice.

SUMMARY: Under the Federal Advisory Committee Act, 5 U.S.C. Appendix 2 (Pub. L. 92-463), EPA announces the formation of a work group to be known as the Title V Task Force. This task force will seek input from the public including industry, State, and local air pollution control agencies, and environmental interest groups, on the performance of the title V operating permits programs. The ultimate goal of the title V task force will be to draft a report for consideration of the Permitting/Toxics Subcommittee to the Clean Air Act Advisory Committee (CAAAC) to document how the title V program is performing and what elements are working well and/or poorly. The draft report may include suggestions on how to improve the program.

Through this notice, EPA solicits individuals to participate as members of the task force. We are looking for 12 to 24 individuals willing to attend at least three all-day meetings throughout the United States, participate in a number of conference calls, and participate in drafting the report to the subcommittee.

In addition, we are announcing three all-day public meetings of the task force. The first meeting will be held in late June in the Washington, DC, area. The second meeting will probably be held in mid-September in the Chicago area. The third meeting will likely be held in late January 2005 in a western location such as Phoenix, Arizona.

FOR FURTHER INFORMATION CONTACT: Mr. Ray Vogel, Information Transfer and Program Implementation Division, Office of Air Quality Planning and Standards, Mail Code C304-04, U.S. Environmental Protection Agency, Research Triangle Park, North Carolina 27711; telephone (919) 541-3153; fax number: (919) 541-5509; and e-mail address: vogel.ray@epa.gov.

SUPPLEMENTARY INFORMATION:

A. What Is the Purpose of This Notice and Task Force?

The purpose of this notice is to announce an EPA effort to gather information from stakeholders on the performance of the title V operating permits program. Specifically, this notice has two purposes: (1) To solicit interest in participation on an EPA-chaired task force formed to investigate this performance, and (2) to announce a series of all-day public meetings that will be held by this task force.

When Congress amended the Clean Air Act (Act) in 1990, it established an operating permits program in title V of the Act. Title V mandates that EPA establish minimum standards for an operating permits program for major and certain other stationary sources of air pollution. In 1992 and 1996, EPA promulgated regulations setting forth minimum requirements for State, local, and Tribal operating permits programs (40 CFR part 70) and for the Federal operating permits program (40 CFR part 71).

Almost 12 years have passed since EPA promulgated the initial regulations for this program. To better fulfill its oversight responsibilities, as envisioned by Congress, EPA now wants to assess the effectiveness of this program. The Permitting/Toxics Subcommittee of the CAAAC, a group of stakeholders that advise EPA on air environmental issues, plans to convene a task force that will report to the subcommittee on the experiences of stakeholders who have been working in the title V permitting arena (i.e., a “state of the title V programs” report). The draft report should reflect the perspectives of all stakeholder groups and should reflect an effort to answer two questions: (1) How well is the title V program performing, and (2) what elements of the program are working well/poorly? To satisfy these goals, the subcommittee is setting up a task force for this purpose. The task force will be made up of EPA and title V stakeholders and will host at least three public meetings to obtain information from stakeholders about how the program has been implemented.

B. How Do I Become a Member of the Task Force and What Is Required of Members?

The EPA is looking for a 12 to 24 member task force with balanced participation from industry, State/local agencies, and environmental groups. For industry, we are interested in plant personnel with direct title V experience and those who assist these personnel with title V permitting. For environmental groups, we are interested in organizations and members of the public with title V experience. The time commitment and duties for task force members will involve at least three all-day meetings to be held throughout the U.S. and include preparation and post-meeting duties. Duties will include preparing for and attending all meetings, sharing your own title V experiences, engaging with other meeting attendees, and assisting with drafting the report. Conference calls could be required in addition to the meetings.

The best candidates for the task force will be those with direct experience in title V permits and their implementation, those able to represent views of others in your stakeholder group (for example, a State or local agency having membership in a regional planning organization such as Northeast States for Coordinated Air Use Management or Western States Air Resources Council) and those who can commit to traveling to all three meetings. The EPA does not have funding to pay for travel. Please note that if you cannot be on the task force, but you have title V permitting experiencies to share, we still encourage your participation in one of the three public meetings.

If you are interested in being considered for this task force, please submit your name, organization, telphone number, e-mail address, a short statement of your interest and qualifications, and your ability to fulfill the duties of the task force to Ray Vogel (see For Further Information Contact section) within 2 weeks of the date of this notice.

C. How Do I Participate in the Public Meetings?

We will post the day, time, and location of each meeting on the CAAAC Web site: www.epa.gov/oar/caaac/. We invite anyone with title V experience to share their perspectives with the task force at these meetings. The agenda will consist of hearing from each attendee and any questions the task force might have. Attendees will register when they arrive and be given a number. After some brief logistical remarks by the task force chair (no formal remarks will be made by the task force), we will call on the first registrant and proceed until we have heard from all attendees. Each attendee will be given 5 minutes to speak followed by time for the task force to ask questions or seek clarifications. People wishing to speak are encouraged to submit a brief summary of their title V experiences to Ray Vogel (see For Further Information CONTACT section) 2 weeks before the meeting, and you should bring a copy to submit at the public meeting. The meeting will be recorded and a transcript will be made and placed in the public docket. In your remarks, we ask that you focus on your experiencies of what is working well in the title V program, what you feel is not working well and, if you choose, what remedy you recommend and how it would correct the concern(s) you identified. We encourage participants to give actual examples of your experiencies with title V implementation including what is working well.

D. How Do I Find Out About These Public Meetings?

The EPA plans for at least three public meetings. The first is being planned for late June in the Washington, DC, area; the second in mid-September in Chicago; and the third next winter, likely late January 2005, in Phoenix, Arizona. You are requested to access the CAAAC Web site at www.epa.gov/oar/caaac/ for the dates and logistics of all future meetings. You may also contact Ray Vogel at (919) 541-3153.

E. How Do I Get Copies of the Draft Report of the Task Force and Other Public Information Related to the Task Force's Work?

The EPA has established a public docket for the CAAAC under docket ID No. A-94-34. The official public docket will consist of documents specifically related to the activities of the task force, including Federal Register notices, any written public comments received at the meetings, transcripts of public meetings, and the draft report of the task force. The public docket does not include confidential business information or any other information for which public disclosure is restricted by statute, and thus, you should not submit such information for the docket. The official public docket is a collection of materials available for public viewing at the Air Docket in the EPA Docket Center, (EPA/DC) EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air Docket is (202) 566-1742. A reasonable fee may be charged for copying.

Dated: May 6, 2004.
Gregory A. Green,
Acting Director, Office of Air Quality Planning and Standards.

[FR Doc. 04-11113 Filed 5-14-04; 8:45 am]

BILLING CODE 6560-50-P